DEPARTMENT OF THE INTERIOR

Fish and Wildlife Service

[FWS-R3-R-2010-N118; 30136-1265-0000-S3]

Tamarac National Wildlife Refuge and Wetland Management District, Minnesota

AGENCY: Fish and Wildlife Service, Interior.

ACTION: Notice of Availability: draft comprehensive conservation plan and environmental assessment; request for comments.

SUMMARY: We, the U.S. Fish and Wildlife Service (Service), announce the availability of a draft comprehensive conservation plan (CCP) and draft environmental assessment (EA) for Tamarac National Wildlife Refuge (NWR) and Tamarac Wetland Management District (WMD) for public review and comment. In this draft CCP/EA we describe how we propose to manage the refuge and district for the next 15 years.

DATES: To ensure consideration, we must receive your written comments by August 6, 2010. An open house style meeting will be held during the comment period to receive comments and provide information on the draft plan. Special mailings, newspaper articles, internet postings, and other media announcements will inform people of the meetings and opportunities for written comments.

ADDRESSES: Comments or requests for more information can be sent by any of the following methods. You may also drop off comments in person at Tamarac NWR.

1. Agency Web site: View or download a copy of the document and comment at http://www.fws.gov/midwest/planning/Tamarac/index.html.

2. E-mail: r3planning@fws.gov. Include “Tamarac Draft CCP/EA” in the subject line of the message.

3. Fax: 218-847-2641.

4. Mail: Attention: Refuge Manager, Tamarac National Wildlife Refuge, 35704 County Road 26, Rochert, Minnesota 56578.

FOR FURTHER INFORMATION CONTACT: Barbara Boyle, 218-847-2641.

SUPPLEMENTARY INFORMATION:

Introduction

With this notice, we continue the CCP process for Tamarac NWR and WMD, which we began by publishing a notice of intent on (72 FR 27587-27588, May 16, 2007). For more about the initial process and the history of this refuge and district, see that notice.

The 42,738-acre Tamarac National Wildlife Refuge was established in 1938. The Refuge includes 2,180 Federally-designated wilderness acres. The Tamarac Wetland Management District consists of 8,577 acres of wetland easements distributed throughout five counties.

Background

The CCP Process

The National Wildlife Refuge System Administration Act of 1966, as amended by the National Wildlife Refuge System Improvement Act of 1997 (16 U.S.C. 668dd-668ee), requires us to develop a comprehensive conservation plan for each national wildlife refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other stakeholders and partners, and the public identified several priority issues, which include habitat management, invasive species, and demand for additional recreation opportunities and visitor services. To address these issues, we developed and evaluated the following alternatives during the planning process.

Tamarac National Wildlife Refuge

Alternative 1: Management of Habitat in Context of Providing Migratory Bird Benefits and Complemented with Priority Public Use (Preferred Alternative)

The preferred alternative for Tamarac NWR over the next 15 years directs management of habitats to focus on maintaining and using ecological processes that shaped these communities prior to European settlement and will allow for some emphasis of priority bird habitat. Wildlife-dependant recreation opportunities, biological surveys and monitoring activities, and native habitats would all increase under the preferred alternative.

Alternative 2: Pre-Settlement Ecological Processes

Refuge management actions will approximate ecological processes that promoted the native communities present prior to European settlement, emphasizing the use of natural hydrological and fire regimes. Environmental interpretation and education programs will emphasize the role of ecological processes in creating natural pre-European settlement habitats and cultural history.

Alternative 3: Focused Management for Priority Migratory Birds

The focus of this alternative will be management for U.S. Fish and Wildlife Service (Region 3) priority wetland and grassland birds. Environmental interpretation and education programs on and off the Refuge will focus on the importance of managing for Service priority wetland and forest birds and their habitats.

Alternative 4: Current Management Direction of Conservation, Restoration, and Preservation (No Action)

Current management is focused on providing a variety of upland and wetland habitats to benefit an array of migratory and resident species. Forest lands are harvested to maintain early and mid-successional stages. Wetlands are actively managed to benefit migratory birds, especially waterfowl. Visitor services include a variety of environmental education programs, an auto-tour route, annual open houses, foot trails, a visitor contact station, and observation platforms.

Tamarac Wetland Management District

Alternative 1: Restoration and Management of Habitat by Facilitating Natural Ecological Processes but Also Providing for Migratory Bird Benefits (Preferred Alternative)

This alternative will result in a more active and growing WMD. Wildlife resources of concern will be identified and targeted for protection and enhancement. Management of upland habitats will focus on maintaining and using ecological processes that shaped these communities prior to European settlement including fire and grazing. Growth of the WMD will include fee and easement acquisitions as funding is available. Priority will be given to core areas, corridors and critical sites.

Alternative 2: Pre-Settlement Ecological Processes

Under Alternative 2, WMD actions will approximate ecological processes that promoted the native communities present prior to European settlement, emphasizing the use of natural hydrological and fire regimes. Vegetative communities and wildlife diversity will then be expected to resemble pre-settlement conditions. Actions on private lands, such as the use of prescribed fire and grazing, will be used if possible. The WMD will not grow as much as under Alternative 1 but landowner interaction will be similar.

Alternative 3: Current Management Direction (No Action)

Current management is focused on providing habitats to benefit migratory birds, especially nesting waterfowl. Landowners are primarily responsible for maintaining habitat and controlling invasive plant species. No growth in easement land holdings has occurred since the mid-1990s. Emphasis will be on maintaining relationships with existing landowners and enforcement issues. New acquisitions and partnerships will continue on an opportunistic basis.

Public Meeting

We will give the public an opportunity to provide input at a public meeting. You can obtain the schedule from the address or web site listed in this notice (see addresses). You may also submit comments anytime during the comment period.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: June 18, 2010.
Lynn M. Lewis,
Acting Regional Director, U.S. Fish and Wildlife Service, Fort Snelling, Minnesota.

[FR Doc. 2010-16425 Filed 7-6-10; 8:45 am]

BILLING CODE 4310-55-P